Title 3—

The President

Proclamation 8293

Gold Star Mother's Day, 2008

By the President of the United States of America

A Proclamation

Throughout our history, the men and women of the Armed Forces have put our Nation's security before their own, doing their duty in the face of grave danger. On Gold Star Mother's Day, we pay solemn tribute to the mothers of the patriots lost serving this great Nation.

Gold Star Mothers inspire our Nation with their deep devotion to family and country. These extraordinary women serve their communities, dedicate their time to helping members of our Armed Forces and veterans, and bring comfort and hope to families whose loved ones laid down their lives in the defense of our liberty. Nothing can compensate for their sacrifice and loss, yet Gold Star Mothers demonstrate tremendous courage and resolve while working to preserve the memory and legacy of all our fallen heroes.

On this day, we honor our country's Gold Star Mothers and remember their sons' and daughters' noble service and great sacrifice. We offer them our deepest gratitude and our most profound respect, and we ask for God's blessings to be upon them and their families.

The Congress, by Senate Joint Resolution 115 of June 23, 1936 (49 Stat. 1895 as amended), has designated the last Sunday in September as “Gold Star Mother's Day” and has authorized and requested the President to issue a proclamation in its observance.

NOW, THEREFORE, I, GEORGE W. BUSH, President of the United States of America, do hereby proclaim Sunday, September 28, 2008, as Gold Star Mother's Day. I call upon all Government officials to display the flag of the United States over Government buildings on this special day. I also encourage the American people to display the flag and hold appropriate ceremonies as a public expression of our Nation's sympathy and respect for our Gold Star Mothers.

IN WITNESS WHEREOF, I have hereunto set my hand this twenty-fourth day of September, in the year of our Lord two thousand eight, and of the Independence of the United States of America the two hundred and thirty-third.

[FR Doc. E8-22945

Filed 9-26-08; 8:45 am]

Billing code 3195-01-P